DEPARTMENT OF TRANSPORTATION

Federal Aviation Administration

14 CFR Part 39

[Docket No. FAA-2013-0481; Directorate Identifier 2011-SW-003-AD]

RIN 2120-AA64

Airworthiness Directives; Bell Helicopter Textron, Inc. Helicopters

AGENCY: Federal Aviation Administration (FAA), DOT.

ACTION: Notice of proposed rulemaking (NPRM).

SUMMARY: We propose to adopt a new airworthiness directive (AD) for Bell Helicopter Textron, Inc. (Bell) Model 206A, 206B, 206L, 206L-1, 206L-3, 206L-4, and 407 helicopters with an Apical Industries, Inc. (Apical) emergency float kit installed under supplemental type certificate (STC) number SR01535LA. This proposed AD would require inspecting, labeling, and replacing the float inflation hoses. This proposed AD is prompted by an incident in which the floats installed on a helicopter failed to deploy. The proposed actions are intended to prevent failure of the emergency floatation gear to deploy during an emergency event.

DATES: We must receive comments on this proposed AD by August 5, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Apical Industries, Inc., 2608 Temple Heights Drive, Oceanside, CA 92056-3512; telephone (760) 724-5300; fax: (760) 758-9612; or at www.apicalindustries.com. You may review the referenced service information at the FAA, Office of the Regional Counsel, Southwest Region, 2601 Meacham Blvd., Room 663, Fort Worth, Texas 76137.

FOR FURTHER INFORMATION CONTACT: Venessa Stiger, Cabin Safety/Mechanical & Environmental Systems, Los Angeles Aircraft Certification Office, Transport Airplane Directorate, FAA, 3960 Paramount Blvd., Lakewood, California 90712-4137; telephone (562) 627-5337; email venessa.stiger@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for Bell Model 206A, 206B, 206L, 206L-1, 206L-3, 206L-4, and 407 helicopters with an Apical emergency float kit installed under STC number SR01535LA. This proposed AD is prompted by an incident in which the floats did not deploy evenly and the right-hand (RH) mid-float ruptured on a helicopter modified with an Apical emergency float kit. An investigation determined that the uneven deployment resulted from incorrect installation of the float inflation hoses on the port fitting at the base of the forward crosstube saddle. Subsequent inspection of one operator's fleet revealed more instances of incorrect inflation hose installation. This proposed AD would require inspecting the hoses at the port fittings for correct installation and condition, labeling the port fittings, and replacing the float inflation hoses. We are proposing this AD to prevent failure of the emergency floats to inflate fully in an emergency.

FAA's Determination

We are proposing this AD because we evaluated all known relevant information and determined that an unsafe condition exists and is likely to exist or develop on other products of the same type design.

Related Service Information

We have reviewed Apical Alert Service Bulletin No. SB2010-03, Revision C, dated December 21, 2011 (ASB). The ASB provides instructions for inspecting the float inflation hoses, installing an aft float label onto the port fittings, installing a port fitting adapter on the port fittings, and replacing the hoses leading to the aft floats of each affected helicopter.

Proposed AD Requirements

This proposed AD would require:

• Within 45 hours time-in-service (TIS), inspecting each float inflation hose port fitting for corrosion, condition, or a bend in the tubing, and replacing the hose if there is corrosion or damage that has penetrated the base material more than .010 inch. If there is a bend in the tubing greater than 5 degrees, bending the port fitting back to its original position. Installing a marking label on each port fitting which states “AFT FLOAT.”

• Within 6 months, installing a port fitting adapter on each port fitting and replacing each aft float hose.

Differences Between This Proposed AD and the Service Information

The ASB requires installing the port fitting adapter and replacing the aft hose by a specific calendar date, while the proposed AD requires these actions be accomplished within 6 months.

Costs of Compliance

We estimate that this proposed AD would affect 265 helicopters of U.S. Registry. Based on an average labor rate of $85 per hour, we estimate that operators may incur the following costs in order to comply with this AD. Inspecting the float inflation hoses and installing the marking labels will require about 1 work hour, and required parts will cost about $2, for a cost per helicopter of $87, and a total cost to U.S. operators of $23,055. Installing the port fitting adaptor and replacing the aft float hose assembly will require about 1 work hour, and required parts will cost about $165, for a cost per helicopter of $250. Thus, we estimate a total cost to U.S. operators of $89,305.

If any fitting has excessive corrosion or damage, replacing the fitting will require about 1 work hour, and required parts will cost about $125, for a cost per helicopter of $210.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron, Inc.: Docket No. FAA-2013-0481; Directorate Identifier 2011-SW-003-AD.

(a) Applicability

This AD applies to Bell Helicopter Textron, Inc. (Bell) Model 206A, 206B, 206L, 206L-1, 206L-3, 206L-4, and 407 helicopters with an Apical Industries, Inc. (Apical) emergency float kit installed under supplemental type certificate (STC) number SR01535LA, certificated in any category.

(b) Unsafe Condition

This AD defines the unsafe condition as incorrectly installed float inflation hoses, which could result in failure of the emergency floats to inflate fully during an emergency.

(c) Comments Due Date

We must receive comments by August 5, 2013.

(d) Compliance

You are responsible for performing each action required by this AD within the specified compliance time unless it has already been accomplished prior to that time.

(e) Required Actions

(1) Within 45 hours time-in-service:

(i) Inspect each float inflation hose port fitting at the left-hand (LH) and right-hand (RH) forward crosstube saddles for corrosion, damage, or a bend in the tubing greater than 5 degrees from their original position.

(A) If there is corrosion that has penetrated the base material more than .010 inch, or damage that has removed more than .010 inch of base material, before further flight, replace the port fitting.

(B) If there is a bend in the port fitting tubing greater than 5 degrees from the original position of the tube, bend the port fitting back to its original position to enable complete sealing of the port fitting adapter.

(ii) Inspect the position of each float inflation hose for proper connection and routing to the LH and RH port fittings. If the position of any float inflation hose is not as shown in figure 2 of Apical Alert Service Bulletin (ASB) No. SB2010-03, Revision C, dated December 21, 2011 (ASB SB2010-03), before further flight, correct the installation of the float inflation hose at the port fitting.

(iii) Install a marking label on the LH and RH port fittings as shown in figures 3 and 4 of ASB SB2010-03 and seal the marking label with clear shrink tubing.

(2) Within 6 months:

(i) Remove each hose connecting the aft float to the port fitting, part number (P/N) 602.1417 for Model 206A and 206B helicopters, P/N 602.1420 for Model 206L, 206L-1, 206L-3, and 206L-4 helicopters, or P/N 602.1413 for Model 407 helicopters, from each skid tube.

(ii) Install a port fitting adaptor, P/N 614.8709, onto the straight line fitting on the LH and RH port fittings as depicted in figure 6 of ASB SB2010-03.

(iii) Install an aft float hose, P/N 602.1430 for Model 206A and 206B helicopters, P/N 602.1431 for Model 206L, 206L-1, 206L-3, and 206L-4 helicopters, or P/N 602.1429 for Model 407 helicopters, to each port fitting adaptor and aft float.

(3) Do not install a hose, P/N 602.1417 for Model 206A and 206B helicopters, P/N 602.1420 for Model 206L, 206L-1, 206L-3, and 206L-4 helicopters, or P/N 602.1413 for Model 407 helicopters, on any helicopter.

(f) Alternative Methods of Compliance (AMOC)

(1) The Manager, Los Angeles Aircraft Certification Office, FAA, may approve AMOCs for this AD. Send your proposal to: Venessa Stiger, Cabin Safety/Mechanical & Environmental Systems, Los Angeles Aircraft Certification Office, Transport Airplane Directorate, FAA, 3960 Paramount Blvd., Lakewood, California 90712-4137; telephone (562) 627-5337; email venessa.stiger@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Subject

Joint Aircraft Service Component (JASC) Code: 3212: Emergency Flotation Section.

Issued in Fort Worth, Texas, on May 28, 2013.
Kim Smith,
Directorate Manager, Rotorcraft Directorate, Aircraft Certification Service.

[FR Doc. 2013-13302 Filed 6-4-13; 8:45 am]

BILLING CODE 4910-13-P